NATIONAL SCIENCE FOUNDATION

Agency Information Collection Activities: Comment Request

AGENCY: National Science Foundation.

ACTION: Submission for OMB review; comment request.

SUMMARY: The National Science Foundation (NSF) has submitted the following information collection requirement to OMB for review and clearance under the Paperwork Reduction Act of 1995. This is the second notice for public comment; the first was published in the Federal Register and no comments were received. NSF is forwarding the proposed renewal submission to the Office of Management and Budget (OMB) for clearance simultaneously with the publication of this second notice.

DATES: Written comments and recommendations for the proposed information collection should be sent within 30 days of publication of this notice to www.reginfo.gov/public/do/PRAmain. Find this particular information collection by selecting “Currently under 30-day Review—Open for Public Comments” or by using the search function.

FOR FURTHER INFORMATION CONTACT: Suzanne H. Plimpton, Reports Clearance Officer, National Science Foundation, 2415 Eisenhower Avenue, Alexandria, VA 22314, or send email to splimpto@nsf.gov. Individuals who use a telecommunications device for the deaf (TDD) may call the Federal Information Relay Service (FIRS) at 1-800-877-8339, which is accessible 24 hours a day, 7 days a week, 365 days a year (including federal holidays). Comments regarding this information collection are best assured of having their full effect if received within 30 days of this notification. Copies of the submission(s) may be obtained by calling 703-292-7556.

Comments: Comments regarding (a) whether the proposed collection of information is necessary for the proper performance of the functions of the NSF, including whether the information shall have practical utility; (b) the accuracy of the NSF's estimate of the burden of the proposed collection of information; (c) ways to enhance the quality, use, and clarity of the information on respondents; and (d) ways to minimize the burden of the collection of information on those who are to respond, including through the use of appropriate automated, electronic, mechanical, or other technological collection techniques or other forms of information technology should be addressed to the points of contact in the FOR FURTHER INFORMATION CONTACT section. The first request for public comment was published on December 21, 2023, at 88 FR 88419.

NSF may not conduct or sponsor a collection of information unless the collection of information displays a currently valid OMB control number, and the agency informs potential persons who are to respond to the collection of information that such persons are not required to respond to the collection of information unless it displays a currently valid OMB control number.

Title of Collection: NSF's Eddie Bernice Johnson INCLUDES Initiative National Network Survey.

OMB Number: 3145-0256.

Type of Request: Intent to seek approval to renew with change an information collection.

Abstract: NSF's Eddie Bernice Johnson INCLUDES Initiative (the INCLUDES Initiative) is a comprehensive national effort to enhance U.S. leadership in science, technology, engineering, and mathematics (STEM) discoveries and innovations by catalyzing the STEM enterprise for inclusive change, resulting in a STEM workforce that reflects the diverse population of the Nation. The INCLUDES Initiative aligns with NSF's commitment to equity, inclusion, and broadening participation in the STEM fields and NSF's strategic objectives communicated in the NSF Strategic Plan for Fiscal Years (FY) 2022-2026 (https://www.nsf.gov/pubs/2022/nsf22068/nsf22068.pdf).

The INCLUDES initiative is supported by NSF's Eddie Bernice Johnson INCLUDES Coordination Hub (INCLUDES Coordination Hub; www.includesnetwork.org), an NSF-supported project that provides focused capacity building supports around data and information gathering; learning, community building and engagement; and storytelling, and communications to NSF's Eddie Bernice Johnson INCLUDES National Network (INCLUDES National Network).

NSF is requesting OMB approval for the INCLUDES Coordination Hub to collect information from members of the INCLUDES National Network.

Why you are collecting it: The INCLUDES Coordination Hub seeks to collect data from INCLUDES National Network members to: (1) shape INCLUDES Coordination Hub's activities (e.g., to identify support needs in the coming year; to inform Shared Measures and Network communication, engagement, learning, and community building, and expansion goals); (2) assess the development and progress of the INCLUDES National Network; and (3) inform the INCLUDES Coordination Hub's assessment of progress toward its theory of change.

What information is being collected: The collected information will include information on how and why respondents engage with the Network, each respondent's perspectives on desired outcomes and ways in which the INCLUDES National Network is informing and supporting their efforts to change systems to broaden participation in STEM, in addition to full name, affiliated organizations, email addresses, and home states. Personally identifiable information (PII) is collected primarily to categorize responses based on respondents' roles in the INCLUDES National Network. PII will be accessed only by the INCLUDES Coordination Hub. Any public data reporting will be in aggregate form, and any personal identifiers will be removed.

Respondents: All members of the INCLUDES National Network will be invited to respond to the survey. The INCLUDES National Network is comprised of individuals who are interested in or working directly to broaden participation in STEM. Some of these individuals are INCLUDES grantees; others have received NSF awards outside of INCLUDES or pursue broadening participation in STEM with support from other sources, including grants from federal, state, philanthropic, or business entities. Some are representatives of these various types of funders or businesses, such as program officers at NSF, other federal agencies, and private foundations, as well as interested individuals unaffiliated with particular grant programs.

Estimated number of respondents: 840 (representing a 21% response rate).

Use of the Information: The information collected is primarily for the use of the INCLUDES Coordination Hub to track the health, development, expansion, and diversification of the Network, understand the utility of the INCLUDES Coordination Hub in supporting Network members' success, and for informing design decisions the INCLUDES Coordination Hub will make regarding future programming and support provided to National Network members.

Estimate burden on the public: Estimated at 280 hours, per year, for the duration of the Coordination Hub's cooperative agreement with NSF. It is beneficial for NSF and the Coordination Hub to have access to this information annually to track progress toward the INCLUDES Initiative's goals of supporting constituencies in identifying shared goals and objectives and understanding National Network members' impact.

Average Time per Reporting: The online survey is comprised primarily of closed-ended questions and is designed to be completed by respondents in approximately 25 minutes.

Frequency: Once per year for the duration of the INCLUDES Coordination Hub's cooperative agreement with NSF.

Comments: Comments are invited on: (a) Whether the proposed collection of information is necessary for the proper performance of the functions of the Agency, including whether the information shall have practical utility; (b) the accuracy of the Agency's estimate of the burden of the proposed collection of information; (c) ways to enhance the quality, utility, and clarity of the information on respondents, including through the use of automated collection techniques or other forms of information technology; and (d) ways to minimize the burden of the collection of information on respondents, including through the use of automated collection techniques or other forms of information technology.

Please submit one copy of your comments by only one method. All submissions received must include the agency name and collection name identified above for this information collection. Commenters are strongly encouraged to transmit their comments electronically via email. Comments, including any personal information provided become a matter of public record. They will be summarized and/or included in the request for Office of Management and Budget approval of the information collection request.

Dated: August 15, 2024.
Suzanne H. Plimpton,
Reports Clearance Officer, National Science Foundation.

[FR Doc. 2024-18653 Filed 8-20-24; 8:45 am]

BILLING CODE 7555-01-P